Proclamation 9012 of August 30, 2013

Labor Day, 2013

By the President of the United States of America

A Proclamation

On September 5, 1882, in what is thought to be the first Labor Day event, thousands of working Americans gathered to march in a New York City parade. In the 131 years since, America has called on our workers time and again—to raise and connect our cities; to feed, heal, and educate our Nation; to forge the latest technological revolution. On Labor Day, we celebrate these enduring contributions and honor all the men and women who make up the world's greatest workforce.

America is what it is today because workers began to organize—to demand fair pay, decent hours, safe working conditions, and the dignity of a secure retirement. Through decades upon decades of struggle, they won many of the rights and benefits we too often take for granted today, from the 40-hour work week and minimum wage to safety standards, workers' compensation, and health insurance. These basic protections allowed the middle class to flourish. They formed the basis of the American dream and offered a better life to anyone willing to work for it.

Yet over the past decades, that promise began to erode. People were working harder for less, and good jobs became more difficult to find. My Administration remains committed to restoring the basic bargain at the heart of the American story. We are bringing good jobs back to the United States. We are expanding programs that train workers in tomorrow's industries, and we eliminated tax breaks that benefited the wealthiest Americans at the expense of the middle class. In the years to come, I will continue to support collective bargaining rights that strengthen the middle class and give voice to workers across our Nation. And I will keep pushing for a higher minimum wage—because in America, no one who works full-time should have to live in poverty.

Thanks to the grit and resilience of the American worker, we have cleared away the rubble of the worst recession since the Great Depression. Now is the time to reward that hard work. Today, as America celebrates working people everywhere, we unite behind good jobs in growing industries, and we strengthen our resolve to rebuild our economy on a stronger foundation.

NOW, THEREFORE, I, BARACK OBAMA, President of the United States of America, by virtue of the authority vested in me by the Constitution and the laws of the United States, do hereby proclaim September 2, 2013, as Labor Day. I call upon all public officials and people of the United States to observe this day with appropriate programs, ceremonies, and activities that honor the contributions and resilience of working Americans.

IN WITNESS WHEREOF, I have hereunto set my hand this thirtieth day of August, in the year of our Lord two thousand thirteen, and of the Independence of the United States of America the two hundred and thirty-eighth.

[FR Doc. 2013-21825

Filed 9-5-13; 8:45 am]

Billing code 3295-F3